DEPARTMENT OF ENERGY

Federal Energy Regulatory Commission

Notice of Revocation of Market-Based Rate Tariff

| Docket Nos.
Electric Quarterly Reports | ER02-2001-018
Bell Independent Power | ER11-4577-000
BlueChip Energy LLC | ER11-3467-000
Burgess Capital LLC | ER11-4584-001
Caerus Energy, LLC | ER13-167-002
D & L Harris and Associates | ER12-2522-000
Dynamic PL, LLC | ER11-4530-000
EconoPower, LLC | ER13-1132-000
Energy Investments, LLC | ER11-4468-000
FFC Energy, LLC | ER11-4120-000
Fulcrum Power Marketing LLC | ER10-2761-000
Glacial Energy Holdings | ER11-3614-005
Intelligen Resources, L.P | ER12-2244-000
ISO Trader, LLC | ER10-2650-000
Moguai Energy LLC | ER11-4600-001
NDR Energy Group, LLC | ER13-454-002
People's Power & Gas, LLC | ER11-3753-001
Porter-Walker LLC | ER13-327-001
QC Power Strategies Fund LLC | ER13-354-001
RG Steel Sparrows Point LLC | ER11-3547-002
RMH Energy, LP | ER10-2544-000
Smart Papers Holdings LLC | ER12-42-000
Thompson River Power, LLC | ER10-2988-002
Torofino Physical Trading LLC | ER11-3432-001
Visage Energy Corp. | ER12-2573-000
Vision Power Services, LLC | ER11-4692-000
Vlast LLC | ER12-1720-000

On October 9, 2014, the Commission issued an order announcing its intent to revoke the market-based rate authority of the public utilities listed in the caption of that order, which had failed to file their required Electric Quarterly Reports.¹ The Commission directed those public utilities to file the required Electric Quarterly Reports within 15 days of the date of issuance of the order or face revocation of their authority to sell power at market-based rates and termination of their electric market-based rate tariffs.²

¹ Electric Quarterly Reports, 149 FERC ¶ 61,023 (2014) (October 9 Order).

² Id. at Ordering Paragraph A.

The time period for compliance with the October 9 Order has elapsed. The above-captioned companies failed to file their delinquent Electric Quarterly Reports. The Commission hereby revokes the market-based rate authority and terminates the electric market-based rate tariffs of the companies who are named in the caption of this order.

Dated: October 30, 2014.
Nathaniel J. Davis, Sr.,
Deputy Secretary.

[FR Doc. 2014-26258 Filed 11-4-14; 8:45 am]

BILLING CODE 6717-01-P